DEPARTMENT OF COMMERCE

National Oceanic and Atmospheric Administration

RIN 0648-XA417

New England Fishery Management Council; Public Meeting

AGENCY: National Marine Fisheries Service (NMFS), National Oceanic and Atmospheric Administration (NOAA), Commerce.

ACTION: Notice of a public meeting.

SUMMARY: The New England Fishery Management Council (Council) is scheduling a public meeting of its Scallop Oversight Committee, in May, 2011, to consider actions affecting New England fisheries in the exclusive economic zone (EEZ). Recommendations from this group will be brought to the full Council for formal consideration and action, if appropriate.

DATES: This meeting will be held on Wednesday, May 25, 2011 at 9 a.m.

ADDRESSES: This meeting will be held at the Fairfield Inn & Suites, 185 MacArthur Drive, New Bedford, MA 02740; telephone: (774) 634-2000; fax: (774) 634-2001.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The Committee will review input from the Scallop Plan Development Team and the Scallop Advisory Panel related to development of Framework 23 to the Scallop Fishery Management Plan. To date, Framework 23 is considering alternatives to potentially require a turtle deflector dredge, revise the yellowtail flounder accountability measures (AMs) proposed in Amendment 15, and possibly modify the limited access general category management program for the Northern Gulf of Maine (NGOM) area. The action may also include measures to develop alternatives to modify the current vessel monitoring system (VMS) regulations to improve scallop fleet operations (e.g., how days-at-sea are charged and how a vessel declares into the fishery). There will be a presentation from NMFS staff on the current estimate of yellowtail flounder catch by the scallop fishery in FY2010 as well as a description of how yellowtail flounder will be monitored in the future. The Committee will review recent correspondence related to potentially initiating an action to consider an additional limited access general category permit based on medical hardship. The Committee may also discuss other business at this meeting.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: May 3, 2011.
Tracey L. Thompson,
Acting Director, Office of Sustainable Fisheries, National Marine Fisheries Service.

[FR Doc. 2011-11106 Filed 5-5-11; 8:45 am]

BILLING CODE 3510-22-P